DEPARTMENT OF TRANSPORTATION

Federal Motor Carrier Safety Administration

[Docket No. FMCSA-2007-28534]

Notice of Request for Information (RFI): Commercial Motor Vehicle Driver Risk Factor Study

AGENCY: Federal Motor Carrier Safety Administration (FMCSA), DOT.

ACTION: Notice; request for information.

SUMMARY: In accordance with the Paperwork Reduction Act of 1995, FMCSA announces its plan to submit the Information Collection Request (ICR) described below to the Office of Management and Budget (OMB) for review and approval. This information collection is associated with the agency's study by a research contractor which will investigate commercial motor vehicle driver risk factors. This information collection will aid FMCSA in developing future safety initiatives by examining a wide array of driver and situational factors to determine if they are associated with increased or decreased crash and incident involvement. On March 23, 2007 FMCSA published a Federal Register notice allowing for a 60-day comment period on the ICR. Two comments were received regarding the utility of the survey. These comments will be considered during the information collection activities for the study.

DATES: Please send your comments by August 20, 2007. OMB must receive your comments by this date in order to act quickly on the ICR.

ADDRESSES: You may submit comments to the Office of Information and Regulatory Affairs, Office of Management and Budget, 725 Seventeenth Street, NW., Washington, DC 20503, Attention: DOT/FMCSA Desk Officer.

FOR FURTHER INFORMATION CONTACT: Mr. Albert Alvarez, Federal Motor Carrier Safety Administration, Office of Research and Analysis (MC-RRR), Federal Motor Carrier Safety Administration, West Building 6th Floor, 1200 New Jersey Avenue, SE., Washington, DC 20590. Telephone: (202) 385-2387; e-mail: albert.alvarez@dot.gov. Office hours are from 8 a.m. to 4 p.m., ET, Monday through Friday, except Federal holidays.

SUPPLEMENTARY INFORMATION: Title: Commercial Motor Vehicle Driver Risk Factor Study.

OMB Control Number: 2126-XXXX.

Type of Request: New information collection.

Respondents: Commercial motor vehicle (CMV) drivers and motor carriers.

Estimated Number of Respondents: 700 [(600 CMV drivers completing telephone interviews and paper/online questionnaires + 72 of the 600 CMV drivers completing in-person interviews, psychological and perceptual testing, and medical examinations) + 100 motor carriers providing driver records = 700].

Estimated Time per Response: The estimated average burden per response is 20 minutes for telephone interviews; 30 minutes for paper/online questionnaires; 4 hours for in-person interviews, including psychological and perceptual testing, and medical examinations; and 30 minutes for motor carriers to locate and deliver respondents' driving records to researchers.

Expiration Date: N/A. This is a new information collection.

Frequency of Response: This information collection will be a single, nonrecurring event.

Estimated Total Annual Burden: 1,124 hours [100 participating carriers × 2 hours to provide information to researchers + 100 non-response carriers × 30 minutes/60 minutes + 600 non-response CMV drivers × 5 minutes/60 minutes + 600 CMV driver telephone interviews × 20 minutes/60 minutes + 600 CMV driver paper/online questionnaires × 30 minutes/60 minutes + 72 in-person interviews, psychological and perceptual testing, and medical examinations × 4 hours + 20 carriers locating and delivering 72 drivers' driving records × 30 minutes per driver/60 minutes = 1,124 hours].

Background: The purpose of this study is to identify, verify, quantify, and prioritize commercial motor vehicle (CMV) driver risk factors. Primarily, these factors are personal, such as demographic characteristics, medical conditions, personality traits, and performance capabilities. Risk factors may also include work environmental conditions, such as carrier operations type, and compensation methods. The study will identify risk factors by linking the characteristics of individual drivers with their driving histories, especially the presence or absence of crashes or inspection violations.

Definitions: Driver risk factors are personal factors such as demographic characteristics, medical conditions, personality traits, and performance capabilities. Risk factors may also include work environmental conditions, such as carrier operations type, and compensation method.

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information.

Issued on: July 11, 2007.
D. Marlene Thomas,
Associate Administrator for Administration.

[FR Doc. E7-14029 Filed 7-19-07; 8:45 am]

BILLING CODE 4910-EX-P